DEPARTMENT OF HOUSING AND URBAN DEVELOPMENT

[Docket No. FR-4653-N-11]

Notice of Proposed Information Collection for Public Comment: Identification of Users of Electronic Permitting Systems

AGENCY: Office of Policy Development and Research, HUD.

ACTION: Notice.

SUMMARY: The proposed information collection requirement concerning a project to obtain information on the use of electronic permitting applications by communities will be submitted to the Office of Management and Budget (OMB) for review, as required by the Paperwork Reduction Act. The Department is soliciting public comments on the subject proposal.

DATES: Comments Due Date: October 12, 2001.

ADDRESSES: Interested persons are invited to submit comments regarding this proposal. Comments should refer to the proposal by name and/or OMB Control Number and should be sent to: Reports Liaison Officer, Department of Housing and Urban Development, 451 7th Street, SW., Room 8228, Washington, DC 20410.

FOR FURTHER INFORMATION CONTACT: Dana Bres, Research Engineer, Office of Policy Development and Research, Department of Housing and Urban Development, 451 7th Street, SW., Room 8134, Washington, DC 20410, telephone number (202) 708-4370 extension 5919 (this is not a toll-free number). Copies of the proposed forms and other available documents may be obtained from Mr. Bres.

SUPPLEMENTARY INFORMATION: The Department will submit the proposed information collection to OMB for review, as required by the Paperwork Reduction Act of 1995 (44 U.S.C. Chapter 35, as amended).

This Notice is soliciting comments from members of the public and affected agencies concerning the proposed collection information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Identification of Users of Electronic Permitting Systems.

Description of the need for the information and proposed use: This information collection is required to provide the information necessary to assess the scope of use and utility of electronic permitting systems in communities.

Members of affected public: Employees of building code departments using or considering using electronic permitting applications. The number of organizations is estimated to be 200. In addition, a short fax/website survey will be conducted where a short questionnaire is published in the relevant trade (code officials) publications.

Estimation of the total numbers of hours needed to prepare the information collection including number of respondents, frequency of response, and hours of response:

Task | Number of respondents | Frequency of responses | Hours per response | Burden hours
Telephone interview | 200 | once | 1.0 | 200
Mail/fax survey | 1000 | once | 0.2 | 200
Total Estimated Annual Burden Hours: 400 (one time).

Number of copies to be submitted to the Office of Policy Development and Research for evaluation: One copy only (this may be a fax or e-mail submission).

Status of the proposed information collection: Pending OMB approval.

Authority: The Paperwork Reduction Act of 1995, 44 U.S.C. Chapter 35, as amended.

Dated: July 30, 2001.
Lawrence L. Thompson,
General Deputy Assistant Secretary for Policy Development and Research.

[FR Doc. 01-20168 Filed 8-10-01; 8:45 am]

BILLING CODE 4210-62-M